DEPARTMENT OF COMMERCE

National Oceanic and Atmospheric Administration

Agency Information Collection Activities; Submission to the Office of Management and Budget (OMB) for Review and Approval; Comment Request; Data Collections To Support Comprehensive Economic and Socio-Economic Evaluations of the Fisheries in Regions of the United States Affected by Catastrophic Events

AGENCY: National Oceanic & Atmospheric Administration (NOAA), Commerce.

ACTION: Notice of Information Collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before May 3, 2021.

ADDRESSES: Interested persons are invited to submit written comments to Adrienne Thomas, NOAA PRA Officer, at Adrienne.thomas@noaa.gov. Please reference OMB Control Number 0648-0767 in the subject line of your comments. Do not submit Confidential Business Information or otherwise sensitive or protected information.

FOR FURTHER INFORMATION CONTACT: Requests for additional information or specific questions related to collection activities should be directed to Dr. Joe Terry, Office of Science and Technology, 1315 East-West Hwy., Bldg. SSMC3, Silver Spring, MD 20910-3282, (858) 454-2547, joe.terry@noaa.gov.

SUPPLEMENTARY INFORMATION:

I. Abstract

This is a request for revision and extension of a currently approved information collection.

The National Marine Fisheries Service (NMFS) Office of Science and Technology's Economics and Social Analysis Division seeks to conduct as-needed data collections to support mandated comprehensive economic and socio-economic evaluations of the fisheries in regions of the United States affected by catastrophic events. The six NMFS Fisheries Science Centers will assist in conducting the proposed collections.

The Magnuson-Stevens Fishery Conservation and Management Act (MSA) includes the following requirement (see SEC. 315 (c)), “Within 2 months after a catastrophic regional fishery disaster the Secretary [of Commerce] shall provide the Governor of each State participating in the program a comprehensive economic and socio-economic evaluation of the affected region's fisheries to assist the Governor in assessing the current and future economic viability of affected fisheries, including the economic impact of foreign fish imports and the direct, indirect, or environmental impact of the disaster on the fishery and coastal communities.” The MSA permits the proposed collection and NMFS would conduct it under the MSA.

This collection will provide information that NMFS will use to produce the comprehensive economic and socio-economic evaluation required by the MSA.

For a rapid catastrophic event, such as a hurricane, NMFS seeks to collect data on the immediate and long-term disruption and impediments to recovery of normal business practices to the commercial and recreational fishing industries, including fishing dependent businesses. In addition, for an ongoing event, such as a pandemic or red tide that lingers for many months in the same region(s), NMFS seeks to collect data quarterly to semi-annually as needed to evaluate the ongoing event. NMFS would collect the data from commercial and recreational for hire fishermen, fish dealers, seafood processors, bait and tackle shops, and boat repair/marine supply/other associated businesses.

NMFS will use the data to prepare the required economic and socio-economic evaluations and to improve research and analysis of potential fishery management actions by understanding the immediate, quarterly or semi-annual, and/or long-term compounding effects of catastrophic events on the commercial and recreational fishing industries and the communities most dependent on those industries.

The proposed revisions would expand the coverage of the currently approved information collection in two ways. First, they would expand the types of catastrophic events from “hurricanes and other climate related natural disasters” to events including hurricanes, tsunamis, floods, freshwater intrusions, severe harmful algal blooms (e.g., red tides), extreme temperatures, oil spills, and pandemics. Second, they would extend the geographic scope from the “Eastern, Gulf Coast and Caribbean Territories of the United States” to all regions and territories of the United States. These proposed expansions are reflected in the request to change the title from “Assessment of the Social and Economic Impact of Hurricanes and Other Climate Related Natural Disasters on Commercial and Recreational Fishing Industries in the Eastern, Gulf Coast and Caribbean Territories of the United States” to “Data Collections to Support Comprehensive Economic and Socio-Economic Evaluations of the Fisheries in Regions of the United States Affected by Catastrophic Events.” NMFS will improve the survey instruments and collection methods based on lessons learned from conducting and assessing the previous information collections. The frequency of reporting will be from one to four times a year for each catastrophic event.

II. Method of Collection

NMFS will use a combination of in-person, telephone and video call interviews, as well as mail and internet surveys, to collect the required information.

III. Data

OMB Control Number: 0648-0767.

Form Number(s): None.

Type of Review: Regular submission [revision of a currently approved collection].

Affected Public: Individuals or households and business or other for-profit organizations.

Estimated Number of Respondents: 10,400.

Estimated Time per Response: Rapid Response and Quarterly to Semi-Annual Fisherman Survey: 20 min; Long Term Response Fisherman Survey: 20 min; Rapid Response and Quarterly to Semi-Annual Fishing Related Business Survey: 20 min; Long Term Response Fishing Related Business Survey: 20 min.

Estimated Total Annual Burden Hours: 3,463.

Estimated Total Annual Cost to Public: $0.

Respondent's Obligation: Voluntary.

Legal Authority: Magnuson-Stevens Fishery Conservation and Management Act SEC. 315(c).

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2021-04285 Filed 3-1-21; 8:45 am]

BILLING CODE 3510-22-P